ENVIRONMENTAL PROTECTION AGENCY

[FRL-11732-01-OA]

Public Meetings of the Science Advisory Board Environmental Justice Science and Analysis Review Panel

AGENCY: Environmental Protection Agency (EPA).

ACTION: Notice.

SUMMARY: The Environmental Protection Agency (EPA) Science Advisory Board (SAB) Staff Office announces two public meetings of the Science Advisory Board Environmental Justice Science and Analysis Review Panel. The purpose of the meetings is to discuss charge questions, listen to agency presentations, listen to public comments and peer review the EPA's draft Revised Technical Guidance for Assessing Environmental Justice in Regulatory Analysis (EJTG). The Panel will also develop a self-initiated commentary outlining recommendations on advancing environmental justice science in rulemaking.

DATES:

Public meetings: The Science Advisory Board Environmental Justice Science and Analysis Review Panel will meet on the following dates. All times listed are in Eastern Time.

1. March 21, 2024, from 1 p.m. to 5 p.m.

2. April 3, 2024, from 9 a.m. to 5 p.m.

3. April 4, 2024, from 9 a.m. to 5 p.m.

4. April 5, 2024, from 9 a.m. to 1 p.m.

Comments: See the section titled “Procedures for providing public input” under SUPPLEMENTARY INFORMATION for instructions and deadlines.

ADDRESSES: The meeting on March 21, 2024, will be conducted virtually. Please refer to the SAB website at https://sab.epa.gov for information on how to attend the meeting. The meeting held on April 3, 4, and 5, 2024, will be conducted in person at DoubleTree by Hilton Hotel Washington DC—Crystal City located at 300 Army Navy Dr., Arlington, VA 22202, and virtually. Please refer to the SAB website at https://sab.epa.gov for information on how to attend the meeting.

FOR FURTHER INFORMATION CONTACT: Any member of the public who wants further information concerning this notice may contact Dr. Suhair Shallal, Designated Federal Officer (DFO), via telephone (202) 564-2057, or email at shallal.suhair@epa.gov. General information about the SAB, as well as any updates concerning the meetings announced in this notice can be found on the SAB website at https://sab.epa.gov.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C. 10. The SAB will comply with the provisions of FACA and all appropriate SAB Staff Office procedural policies. Pursuant to FACA and EPA policy, notice is hereby given that the Science Advisory Board Environmental Justice Science and Analysis Review Panel will hold two public meeting(s) to discuss charge questions, listen to agency presentations, listen to public comments and peer review the EPA's draft Revised Technical Guidance for Assessing Environmental Justice in Regulatory Analysis (EJTG). The Panel will also develop a self-initiated commentary outlining recommendations on advancing environmental justice science in rulemaking.

Availability of Meeting Materials: All meeting materials, including the agenda will be available on the SAB web page at https://sab.epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should follow the instruction below to submit comments.

Oral Statements: In general, individuals or groups requesting an oral presentation at a meeting conducted virtually will be limited to three minutes and individuals or groups requesting an oral presentation at an in-person meeting will be limited to five minutes. Each person making an oral statement should consider providing written comments as well as their oral statement so that the points presented orally can be expanded upon in writing. Persons interested in providing oral statements should contact the DFO, in writing (preferably via email) at the contact information noted under FOR FURTHER INFORMATION CONTACT, by March 14, 2024, for the March 21, 2024 virtual meeting and by March 28, 2024, for the April 3-5, 2024 in person meeting to be placed on the list of registered speakers.

Written Statements: Written statements will be accepted throughout the advisory process; however, for timely consideration by SAB members, statements should be submitted to the DFO by March 14, 2024, for consideration at the March 21, 2024 meeting and March 28, 2024, for consideration at the April 3-4, 2024 meeting. Written statements should be supplied to the DFO at the contact information above via email. Submitters are requested to provide an unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact the DFO, at the contact information noted above, preferably at least ten days prior to the meeting(s), to give the EPA as much time as possible to process your request.

Meeting cancellation: The meetings announced in this Notice may be cancelled if a lapse in government funding occurs. If the meetings are cancelled, a cancellation notice will be posted on the SAB website at https://sab.epa.gov.

V. Khanna Johnston,
Deputy Director, Science Advisory Board Staff Office.

[FR Doc. 2024-03547 Filed 2-21-24; 8:45 am]

BILLING CODE 6560-50-P